DEPARTMENT OF COMMERCE

International Trade Administration

[A-549-502]

Circular Welded Carbon Steel Pipes and Tubes From Thailand: Amended Final Results of Antidumping Duty Administrative Review; 2015-2016

AGENCY: Enforcement and Compliance, International Trade Administration, Department of Commerce.

SUMMARY: The Department of Commerce (Commerce) is amending its final results of the administrative review of the antidumping duty order on circular welded carbon steel pipes and tubes (pipes and tubes) from Thailand. The period of review (POR) is March 1, 2015, through February 29, 2016. The amended final weighted-average dumping margin is listed below in the section entitled, “Amended Final Results.”

DATES: Applicable April 25, 2018.

FOR FURTHER INFORMATION CONTACT: Toni Page, AD/CVD Operations, Office VII, Enforcement and Compliance, International Trade Administration, U.S. Department of Commerce, 1401 Constitution Avenue NW, Washington, DC 20230; telephone: (202) 482-1398.

SUPPLEMENTARY INFORMATION:

Background

On October 10, 2017, Commerce published the Final Results of the 2015-2016 administrative review in the Federal Register.¹ Wheatland Tube LLC (petitioner) and respondent Saha Thai Steel Pipe Public Co., Ltd. (Saha Thai) timely filed ministerial error allegations concerning the Final Results and requested, pursuant to 19 CFR 351.224, that Commerce correct the alleged ministerial errors.²

¹ See Circular Welded Carbon Steel Pipes and Tubes from Thailand: Final Results of Antidumping Duty Administrative Review and Final Determination of No Shipments; 2015-2016, 82 FR 46961 (October 10, 2017) (Final Results), and accompanying Memorandum, “Circular Welded Carbon Steel Pipes and Tubes from Thailand: Decision Memorandum for the Final Results of Antidumping Duty Administrative Review; 2015-2016,” (Issues and Decision Memorandum).

² See Saha Thai Steel Pipe Public Co., Ltd.'s October 6, 2017 Ministerial Error Correction Request; and Petitioner's October 10, 2017 Ministerial Error Allegation.

Scope of the Order

The products covered by the antidumping order are certain circular welded carbon steel pipes and tubes from Thailand. The subject merchandise has an outside diameter of 0.375 inches or more, but not exceeding 16 inches.³

³ A full written description of the scope of the order is contained in the Issues and Decision Memorandum.

Commerce is not making any changes to the scope of the order for these amended final results.

Ministerial Errors

Section 751(h) of the Tariff Act of 1930, as amended (the Act), defines “ministerial errors” as including “errors in addition, subtraction, or other arithmetic function, clerical errors resulting from inaccurate copying, duplication, or the like, and any other type of unintentional error which the administering authority considers ministerial.” ⁴ After analyzing the parties' comments, we have determined, in accordance with section 751(h) of the Act and 19 CFR 351.224(f), that ministerial errors were made in our calculation of Saha Thai's margin for the Final Results. For a detailed discussion of these ministerial errors, as well as Commerce's analysis of these errors, see the Ministerial Error Memorandum.⁵

⁴ See also 19 CFR 351.224(f).

⁵ See Memorandum, “2015-2016 Administrative Review of the Antidumping Duty Order on Circular Welded Steel Pipes and Tubes from Thailand: Ministerial Error Memorandum,” (April 18, 2018) (Ministerial Error Memorandum).

In accordance with section 751(h) of the Act and 19 CFR 351.224(e), we are amending the Final Results.⁶ The revised weighted-average dumping margin is detailed below.

⁶ Id.

Amended Final Results

As a result of correcting for these ministerial errors, we determine the following margin exists for the period March 1, 2015, through February 29, 2016:

Exporter or producer | Weighted- average dumping margin (percent)
Saha Thai Steel Pipe Public Co., Ltd | 0.69

Disclosure

Commerce intends to disclose the calculations performed for these amended final results of review within five days of the date of publication of this notice in the Federal Register, in accordance with 19 CFR 351.224(b).

Assessment Rates

Pursuant to section 751(a)(2)(C) of the Act and 19 CFR 351.212(b), Commerce shall determine, and CBP shall assess, antidumping duties on all appropriate entries of subject merchandise covered by this review. Commerce intends to issue assessment instructions to CBP 15 days after the date of publication of these amended final results in the Federal Register. For Saha Thai, we will base the assessment rate for the corresponding entries on the margin listed above.

Cash Deposit Requirements

The following cash deposit requirements will be effective retroactively for all shipments of subject merchandise entered, or withdrawn from warehouse, for consumption on or after the October 10, 2017, the date of publication of the Final Results of this administrative review, as provided for by section 751(a)(2)(C) of the Act: (1) The cash deposit rate for Saha Thai Steel Pipe Public Co., Ltd. will be equal to the weighted-average dumping margin established in these amended final results of review; (2) for previously reviewed or investigated companies, including those for which Commerce may have determined they had no shipments during the POR, the cash deposit rate will continue to be the company-specific rate published for the most recently completed segment of this proceeding; (3) if the exporter is not a firm covered in this review or another completed segment of this proceeding, but the manufacturer is, then the cash deposit rate will be the rate established for the most recently completed segment of this proceeding for the manufacturer of the merchandise; and (4) if neither the exporter nor the manufacturer is a firm covered in this or any previously completed segment of this proceeding, then the cash deposit rate will be the “all-others” rate of 15.67 percent established in the less-than-fair-value investigation.⁷ These deposit requirements, when imposed, shall remain in effect until further notice.

⁷ See Antidumping Duty Order; Circular Welded Carbon Steel Pipes and Tubes from Thailand, 51 FR 8341 (March 11, 1986).

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Orders

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

These amended final results and notice are issued and published in accordance with sections 751(h) and 777(i) of the Act and 19 CFR 351.224(e).

Dated: April 18, 2018.
Gary Taverman,
Deputy Assistant Secretary for Antidumping and Countervailing Duty Operations, performing the non-exclusive functions and duties of the Assistant Secretary for Enforcement and Compliance.

[FR Doc. 2018-08657 Filed 4-24-18; 8:45 am]

BILLING CODE 3510-DS-P